DEPARTMENT OF LABOR

Office of the Secretary

Submission for OMB Review: Comment Request

August 2, 2007.

The Department of Labor has submitted the following public information collection requests (ICR) to the Office of Management and Budget (OMB) for review and approval in accordance with the Paperwork Reduction Act of 1995 (Pub. L. 104-13, 44 U.S.C. chapter 35). Copies of the ICRs, announced herein with applicable supporting documentation; including inter alia a description of the likely respondents, proposed frequency of response, and estimated total burden may be obtained from the RegInfo.gov Web site at http://www.reginfo.gov/public/do/PRAMain or by contacting Darrin King on 202-693-4129 (this is not a toll-free number)/e-mail: king.darrin@dol.gov.

Comments should be sent to Office of Information and Regulatory Affairs, Attn: John Kraemer, OMB Desk Officer for the Mine Safety and Health Administration (MSHA), Office of Management and Budget, 725 17th Street, NW., Room 10235, Washington, DC 20503, Telephone: 202-395-4816/ Fax: 202-395-6974 (these are not a toll-free numbers), E-mail: John_Kraemer@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Hazardous Conditions Complaints.

OMB Number: 1219-0014.

Number of Respondents: 1,358.

Estimated Total Annual Burden Hours: 272.

Affected Public: Private Sector: Business or other for-profit.

Description: In order to ensure optimum occupational safety conditions, miners or representatives of miners may submit a written or oral notification of an alleged violation of the Federal Mine Safety and Health Act of 1977 (Pub. L. 91-173) or an alleged violation of a mandatory standard contained in Title 30 of the U.S. Code of Regulations or of an imminent danger. Such notification requires MSHA to make an immediate inspection.

Agency: Mine Safety and Health Administration.

Type of Review: Extension without change of currently approved collection.

Title: Ventilation Plan and Main Fan Maintenance Record.

OMB Number: 1219-0016.

Number of Respondents: 247.

Estimated Total Annual Burden Hours: 5,942.

Affected Public: Private Sector: Business or other for-profit.

Description: The information collected pursuant to 30 CFR 57.8520 is used to: (a) Assure that each operator of an underground metal and nonmetal mine routinely plans, reviews, and updates the mine's ventilation system; (b) insure the availability of accurate and current ventilation information; and (c) provide MSHA with the opportunity to alert the mine operator to potential hazards. With respect to 30 CFR 57.8525, the information is maintained by the mine operator for his or her use. Ventilation personnel may use the information when called upon to solve a problem. MSHA uses the information to determine whether the fans have been adequately maintained in compliance with the standard.

Agency: Mine Safety and Health Administration.

Type of Review: Extension without change of currently approved collection.

Title: Slope and Shaft Sinking Plans.

OMB Number: 1219-0019.

Number of Respondents: 65.

Estimated Total Annual Burden Hours: 1,300.

Affected Public: Private Sector: Business or other for-profit.

Description: Plans are submitted for approval to the District Manager in whose district the mine is located. Once approved, plans are used by MSHA to determine that the equipment and methods used by the mine operator to provide a safe working environment for their employees is as stated in the approved plan.

Agency: Mine Safety and Health Administration.

Type of Review: Extension without change of currently approved collection.

Title: Safety Defects; Examination, Correction and Records.

OMB Number: 1219-0089.

Number of Respondents: 12,557.

Estimated Total Annual Burden Hours: 1,223,104.

Affected Public: Private Sector: Business or other for-profit.

Description: The records are used by industry management and maintenance personnel to ensure that defects are not overlooked, that repairs are made, and to monitor when and how often maintenance is performed on certain equipment, machinery, and tools. Additionally, the inspection records denote any hazards that were discovered and how the hazards or unsafe conditions were abated. Federal mine inspectors use the records to ensure that unsafe conditions are identified and corrected.

Agency: Mine Safety and Health Administration.

Type of Review: Extension without change of currently approved collection.

Title: Diesel Particulate Matter Exposure of Underground Coal Miners.

OMB Number: 1219-0124.

Number of Respondents: 165.

Estimated Total Annual Burden Hours: 623.

Affected Public: Private Sector: Business or other for-profit.

Description: The Mine Safety and Health Administration's standards and regulations for diesel-powered equipment in underground coal mines serve to protect coal miners who work on and around diesel-powered equipment. The internal combustion engines that power diesel equipment expose miners to fire and explosion hazards in the confined environment of an underground coal mine, which contains combustible coal dust and highly explosive methane gas.

Darrin A, King,
Acting Departmental Clearance Officer.

[FR Doc. E7-15367 Filed 8-7-07; 8:45 am]

BILLING CODE 4510-43-P